SMALL BUSINESS ADMINISTRATION

Data Collection Available for Public Comments

ACTION: 60-Day notice and request for comments

SUMMARY: The Small Business Administration (SBA) intends to request approval, from the Office of Management and Budget (OMB) for the collection of information described below. The Paperwork Reduction Act (PRA) requires Federal agencies to publish a notice in the Federal Register concerning each proposed collection of information before submission to OMB, and to allow 60 days for public comment in response to the notice. This notice complies with that requirement.

DATES: Submit comments on or before May 28, 2024.

ADDRESSES: Send all comments to, Office of Capital Access, Office of Financial Assistance, 7(a) Loan Policy Division, Small Business Administration, Ginger Allen, at Ginger.Allen@sba.gov.

FOR FURTHER INFORMATION CONTACT: For further information, contact Ginger Allen, Chief, 7(a) Loan Policy Division, Office of Financial Assistance, Office of Capital Access, Small Business Administration, at (202) 205-7110 or Ginger.Allen@sba.gov, or Daniel Pische, Director, International Trade Finance, Office of International Trade, Small Business Administration, at (202) 205-7119 or Daniel.Pische@sba.gov. The phone numbers above may also be reached by individuals who are deaf or hard of hearing, or who have speech disabilities, through the Federal Communications Commission's TTY-Based Telecommunications Relay Service teletype service at 711.

Curtis B. Rich, Agency Clearance Officer curtis.rich@sba.gov 202-205-7030.

SUPPLEMENTARY INFORMATION: SBA is contemplating a new 7(a) Working Capital Pilot (WCP) Program within SBA's 7(a) Loan Programs. As part of the implementation of this program SBA has created a new addendum to SBA Form 1919, SBA Form 2534, “7(a) Working Capital Pilot Program Addendum to SBA Form 1919”, to collect specific Applicant business information for the 7(a) WCP Program when a Lender submits a 7(a) WCP application for guaranty. The collection of this information assists in identifying Applicant businesses applying for the 7(a) WCP Program and pertinent information applicable to the pilot program. The form is comprised of questions that help identify the delivery method(s) of the 7(a) WCP loan, gather data for asset-based 7(a) WCP loans regarding initial advance rates for accounts receivable and inventory, and whether 7(a) WCP loan proceeds will be used to refinance the Lender's same institution SBA Express loan(s). SBA Form 2534 must be completed by the Lender and the information from the form will be submitted to SBA electronically via SBA's electronic transmission (E-Tran) platform. Only one form will be submitted as part of an application. SBA expects most Lenders to collect the data through internal or third-party software platforms. Lenders must retain the form in the respective loan file.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: 3245-.

Title: SBA Form 2534 ”7(a) Working Capital Pilot Program Addendum to SBA Form1919”.

Description of Respondents: SBA 7(a) Lenders processing WCP Program Loans.

Form Number: 2534.

Total Estimated Annual Responses: 214.

Total Estimated Annual Hour Burden: 17.83.

Curtis Rich,
Agency Clearance Officer.

[FR Doc. 2024-06421 Filed 3-25-24; 8:45 am]

BILLING CODE 8026-09-P